ENVIRONMENTAL PROTECTION AGENCY

[EPA-HQ-OPA-2007-0042; FRL—9535-2]

Information Collection Request Submitted to OMB for Review and Approval; Comment Request; National Oil and Hazardous Substances Pollution Contingency Plans (Renewal)

AGENCY: Environmental Protection Agency (EPA).

ACTION: Notice.

SUMMARY: The Environmental Protection Agency has submitted an information collection request (ICR), National Oil and Hazardous Substances Pollution Contingency Plans (Renewal) (EPA ICR No. 1664.09, OMB Control No. 2050-0141) to the Office of Management and Budget (OMB) for review and approval in accordance with the Paperwork Reduction Act (44 U.S.C. 3501 et seq.). This is a proposed extension of the ICR, which is currently approved through October 31, 2013. Public comments were previously requested via the Federal Register 78 FR 22256 on April 15, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 9, 2013.

ADDRESSES: Submit your comments, referencing Docket ID Number HQ-OPA-2007-0042, to: (1) EPA online using www.regulations.gov (our preferred method), by email to Docket.rcra@epa.gov or by mail to: EPA Docket Center, Environmental Protection Agency, Mail Code 28221T, 1200 Pennsylvania Ave. NW., Washington, DC 20460 and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: William Nichols, Office of Emergency Management, Regulation and Policy Development Division, (5104A), Environmental Protection Agency, 1200 Pennsylvania Ave. NW., Washington, DC 20460; telephone number: 202-564-1970; fax number: 202-564-8222; email address: nichols.nick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: This Information Collection Request (ICR) renewal supports activities to implement the National Oil and Hazardous Substances Pollution Contingency Plan (NCP), Subpart J (40 CFR 300.900, “Use of Dispersants and Other Chemicals”). Subpart J of the NCP governs the use of bioremediation agents, dispersants, surface washing agents, surface collecting agents, sorbents, and miscellaneous agents in response to oil spills in U.S. waters or adjoining shorelines (40 CFR 300.900). Subpart J requirements include criteria for listing oil spill mitigating agents on the NCP Product Schedule, hereafter referred to as the Schedule. EPA's regulation, which is codified at 40 CFR 300.900, requires that EPA prepare a schedule of “dispersants, other chemicals, and other spill mitigating devices and substances, if any, that may be used in carrying out the NCP. Section 300.910 of Subpart J addresses the authorization of the use of products on the Schedule and specifies the conditions under which OSCs may authorize the use of dispersants, other chemicals, and other spill mitigating substances.

The Schedule is required by section 311(d)(2)(G) of the Clean Water Act (CWA), as amended by the Oil Pollution Act of 1990. The Schedule is used by federal On-Scene Coordinators (OSCs), Regional Response Teams (RRTs), and Area Planners to identify spill mitigating agents in preparation for and response to oil spills.

Form Numbers: None

Respondents/affected entities: Private manufacturers.

Respondent's obligation to respond: Required to obtain or retain benefits.

Estimated number of respondents: 11 per year.

Frequency of response: Once.

Total estimated burden: 315 hours (per year). Burden is defined at 5 CFR 1320.3(b).

Total estimated cost: $88,743 (per year), includes $72,450 annualized capitol or operation & maintenance costs.

Changes in the Estimates: There is a decrease of 75 hours in the total estimated respondent burden compared with the ICR currently approved by OMB. This decrease is due to the expectation that the number of manufacturer respondents will decrease from 14 to 11 per year.

John Moses,
Director, Collection Strategies Division.

[FR Doc. 2013-19140 Filed 8-7-13; 8:45 am]

BILLING CODE 6560-50-P